DEPARTMENT OF LABOR

Employment and Training Administration

Investigations Regarding Certifications of Eligibility To Apply for Worker Adjustment Assistance and Alternative Trade Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than November 26, 2007.

Interested persons are invited to submit written comments regarding the subject matter of the investigations to the Director, Division of Trade Adjustment Assistance, at the address shown below, not later than November 26, 2007.

The petitions filed in this case are available for inspection at the Office of the Director, Division of Trade Adjustment Assistance, Employment and Training Administration, U.S. Department of Labor, Room C-5311, 200 Constitution Avenue, NW., Washington, DC 20210.

Signed at Washington, DC, this 6th day of November 2007.
Ralph DiBattista,
Director, Division of Trade Adjustment Assistance.

Appendix
[TAA petitions instituted between 10/29/07 and 11/2/07]
TA-W | Subject firm (petitioners) | Location | Date of institution | Date of petition
62369 | TEVA (State) | Miami, FL | 10/29/07 | 10/25/07
62370 | Tietex International (Comp) | Spartanburg, SC | 10/29/07 | 10/29/07
62371 | Leach and Garner Company (State) | North Attleboro, MA | 10/29/07 | 10/25/07
62372 | Tree Island Fastener (Comp) | Ferndale, WA | 10/29/07 | 10/22/07
62373 | Mahle (Comp) | Holland, MI | 10/29/07 | 10/24/07
62374 | VF Jeanswear Limited Partnership (Comp) | Greensboro, NC | 10/29/07 | 10/26/07
62375 | International Legwear Group (Comp) | Athens, TN | 10/29/07 | 10/26/07
62376 | Georgia-Pacific (Wkrs) | Los Angeles, CA | 10/29/07 | 10/26/07
62377 | First Choice Distribution (Comp) | Des Moines, IA | 10/29/07 | 10/26/07
62378 | Concentra Health Solutions (Comp) | Charlotte, NC | 10/29/07 | 10/22/07
62379 | Federal Mogul Ignition Company (Comp) | Burlington, IA | 10/30/07 | 10/15/07
62380 | Weyerhaeuser Aberdeen Log Sorting Yard (Comp) | Aberdeen, WA | 10/30/07 | 10/22/07
62381 | 3M Eau Claire (Comp) | Eau Claire, WI | 10/30/07 | 10/30/07
62382 | Milsco Manufacturing Company (Comp) | Milwaukee, WI | 10/30/07 | 10/25/07
62383 | Japser C. Fashion, Inc. (Wkrs) | New York, NY | 10/30/07 | 10/15/07
62384 | Energy Conversion Systems (Comp) | Dunn, NC | 10/30/07 | 10/29/07
62385 | Windstream Communications (Wkrs) | Lincoln, NE | 10/30/07 | 10/29/07
62386 | USR Optonix, Inc. (Comp) | Washington, NJ | 10/30/07 | 10/29/07
62387 | SAF Holland (Wkrs) | Warrenton, MO | 10/30/07 | 10/22/07
62388 | Dresser Rand Company (IUE) | Painted Post, NY | 10/30/07 | 10/23/07
62389 | Peer Foods Group, Inc. (Wkrs) | Chicago, IL | 10/30/07 | 10/15/07
62390 | Techline USA (Union) | Waunakee, WI | 10/31/07 | 10/29/07
62391 | MultiLayer Coating Technologies, LLC (Wkrs) | New Bedford, MA | 10/31/07 | 10/29/07
62392 | GE Zenith Controls (Comp) | Bonham, TX | 10/31/07 | 10/30/07
62393 | American Axle and Manufacturing, Inc. (Comp) | Buffalo, NY | 10/31/07 | 10/18/07
62394 | TI Automotive Systems (State) | Warren, MI | 11/01/07 | 10/30/07
62395 | MegTec Systems (Union) | Depere, WI | 11/01/07 | 10/31/07
62396 | Atrum-Brighton (Magna International) (UAW) | Brighton, MI | 11/01/07 | 10/30/07
62397 | Clariant Corporation (Comp) | Charlotte, NC | 11/02/07 | 11/01/07
62398 | Federal-Mogul (Comp) | Michigan City, IN | 11/02/07 | 11/01/07
62399 | Wausau Paper (Comp) | Groveton, NH | 11/02/07 | 10/31/07
62400 | Janesville Acoustic (UAW) | Grand Rapids, MN | 11/02/07 | 11/01/07
62401 | Victor Forstmann, Inc. (Comp) | East Dublin, GA | 11/02/07 | 10/31/07
62402 | Alma Products (Wkrs) | Alma, MI | 11/02/07 | 10/25/07
62403 | Quality Industrial Services (Wkrs) | Madisonville, KY | 11/02/07 | 10/26/07
62404 | Motor Wheel Commercial Vehicle Systems (Wkrs) | Berea, KY | 11/02/07 | 10/28/07

[FR Doc. E7-22318 Filed 11-14-07; 8:45 am]

BILLING CODE 4510-FN-P